DEPARTMENT OF COMMERCE

National Oceanic and Atmospheric Administration

RIN 0648-XF658

Fisheries of the South Atlantic; South Atlantic Fishery Management Council; Public Meetings

AGENCY: National Marine Fisheries Service (NMFS), National Oceanic and Atmospheric Administration (NOAA), Commerce.

ACTION: Announcement of rescheduled meetings of the South Atlantic Fishery Management Council's Citizen Science Advisory Panel Projects/Topics Management; Volunteers; Communication/Outreach/Education Action Teams.

SUMMARY: The South Atlantic Fishery Management Council (Council) will hold meetings of its Citizen Science Advisory Panel Projects/Topics Management; Volunteers; Communication/Outreach/Education Action Teams via webinar. The meetings via webinar were originally scheduled for Tuesday, September 19, 2017 at 1 p.m. (Projects/Topics Management); Thursday, September 21, 2017 at 1 p.m. (Volunteers); Friday, September 22, 2017 at 10 a.m. (Communication/Outreach/Education) but have been rescheduled as a result of wide-spread impacts due to Hurricane Irma [See SUPPLEMENTARY INFORMATION].

DATES: The Volunteers Team meeting has been rescheduled for Monday, October 2, 2017 at 1 p.m.; Projects/Topics Management Team on Tuesday, October 3, 2017 at 2 p.m.; and Communication/Outreach/Education Team on Wednesday, October 4 at 1 p.m. Each meeting is scheduled to last approximately 90 minutes. Additional Action Team webinar and plenary webinar dates and times will publish in a subsequent issue in the Federal Register.

ADDRESSES: The meetings will be held via webinar and are open to members of the public. Webinar registration is required and registration links will be posted to the Citizen Science program page of the Council's Web site at www.safmc.net.

Council address: South Atlantic Fishery Management Council, 4055 Faber Place Drive, Suite 201, N. Charleston, SC 29405.

FOR FURTHER INFORMATION CONTACT: Amber Von Harten, Citizen Science Program Manager, SAFMC; phone: (843) 302-8433 or toll free (866) SAFMC-10; fax: (843) 769-4520; email: amber.vonharten@safmc.net.

SUPPLEMENTARY INFORMATION: Due to the impacts of Hurricane Irma and ongoing recovery efforts in the South Atlantic region, the meetings of the Council's Citizen Science Advisory Panel Projects/Topics Management; Volunteers; Communication/Outreach/Education Action Team originally scheduled for Tuesday, September 19, 2017 at 1 p.m. (Projects/Topics Management); Thursday, September 21, 2017 at 1 p.m. (Volunteers); Friday, September 22, 2017 at 10 a.m. (Communication/Outreach/Education) have been rescheduled. The originally scheduled meetings were published in the Federal Register on September 1, 2017 (82 FR 41613).

The Volunteers Team meeting has been rescheduled for Monday, October 2, 2017 at 1 p.m.; Projects/Topics Management Team on Tuesday, October 3, 2017 at 2 p.m.; and Communication/Outreach/Education Team on Wednesday, October 4 at 1 p.m.

The South Atlantic Fishery Management Council (Council) created a Citizen Science Advisory Panel Pool in June 2017. The Council appointed members of the Citizen Science Advisory Panel Pool to five Action Teams in the areas of Volunteers, Data Management, Projects/Topics Management, Finance, and Communication/Outreach/Education to develop program policies and operations for the Council's Citizen Science Program.

The Communication/Outreach/Education; Projects/Topics Management; Volunteers Action Teams will meet to continue work on developing recommendations on program policies and operations to be reviewed by the Council's Citizen Science Committee. Public comment will be accepted at the beginning of the meeting.

Items to be addressed during these meetings:

1. Discuss work on tasks in the Terms of Reference

2. Other Business

Special Accommodations

These meetings are physically accessible to people with disabilities. Requests for auxiliary aids should be directed to the council office (see ADDRESSES) 3 days prior to the meeting.

Note: The times and sequence specified in this agenda are subject to change.

Authority: 16 U.S.C. 1801 et seq.

Dated: September 15, 2017.
Tracey L. Thompson,
Acting Deputy Director, Office of Sustainable Fisheries, National Marine Fisheries Service.

[FR Doc. 2017-20039 Filed 9-19-17; 8:45 am]

BILLING CODE 3510-22-P